DEPARTMENT OF THE INTERIOR

Bureau of Land Management

[(ID-957-1020-BJ)]

Idaho: Filing of Plats of Survey

AGENCY: Bureau of Land Management, Interior.

ACTION: Notice.

SUMMARY: The plats of the following described lands were officially filed in the Idaho State Office, Bureau of Land Management, Boise, Idaho, effective 9:00 a.m., on the dates specified: The supplemental plat to correct certain inadvertently depicted distances on the line between corners 1 and 2 of the SBMS-2 millsite, as noted on the plat accepted March 4, 1992, T. 13 N., R. 15 E., Boise Meridian, Idaho, and was accepted March 19, 2001. The plat was prepared to meet certain administrative needs of the Bureau of Land Management.

The supplemental plat to correct the bearing between traverse point Nos. 23 and 24, inadvertently depicted as S.0°38′ W., on the plat accepted April 14, 1998, T. 17 N., R. 23 E., Boise Meridian, Idaho, and was accepted March 19, 2001. The plat was prepared to meet certain administrative needs of the Bureau of Land Management.

The plat representing the dependent resurvey of a portion of the First Standard Parallel South on the south boundary of T. 6 S., R. 39 E., Boise Meridian, Idaho, was accepted May 25, 2001. The plat was prepared to meet certain administrative needs of the Bureau of Land Management. The plat representing the dependent resurvey of a portion of the First Standard Parallel South on the south boundary of T. 6 S., R. 40 E., and a portion of the subdivisional lines, and the subdivision of section 5, T. 7 S., R. 40 E., Boise Meridian, Idaho, was accepted May 25, 2001. The plat was prepared to meet certain administrative needs of the Bureau of Land Management. The plat representing the dependent resurvey of a portion of the subdivisional lines of T. 5 S., R. 8 E., Boise Meridian, Idaho, was accepted May 25, 2001. The plat was prepared to meet certain administrative needs of the Bureau of Land Management.

The plat representing the dependent resurvey and corrective dependent resurvey of portions of the east boundary (west boundary of T. 6 S., R. 13 E.), portions of the subdivisional lines, and portions of the subdivision of certain sections, and the dependent resurvey of portions of the west boundary and Lot 1, section17 in T. 6 S., R. 12 E., Boise Meridian, Idaho, was accepted June 6, 2001. The plat was prepared to meet certain administrative needs of the Bureau of Land Management.

FOR FURTHER INFORMATION CONTACT: Duane Olsen, Chief, Cadastral Survey, Idaho State Office, Bureau of Land Management, 1387 South Vinnell Way, Boise, Idaho, 83709-1657, 208-373-3980.

Dated: July 2, 2001.
Jeff A. Lee,
Acting Chief, Cadastral Surveyor for Idaho.

[FR Doc. 01-18268 Filed 7-20-01; 8:45 am]

BILLING CODE 4310-GG-P